DEPARTMENT OF ENERGY

Federal Energy Regulatory Commission

[Docket No. CP10-494-000]

Tallulah Gas Storage LLC; Notice of Application

September 9, 2010.

Take notice that on August 31, 2010, Tallulah Gas Storage LLC (Tallulah), 10370 Richmond Avenue, Suite 510, Houston, TX 77042, filed in Docket No. CP10-494-000, an application, pursuant to section 7(c) of the Natural Gas Act, subpart F of part 157, and subpart G of part 284 of the Commission's regulations for: (1) A certificate of public convenience and necessity authorizing Tallulah to construct and operate a natural gas storage facility and pipeline facilities connecting with Midcontinent Express Pipeline LLC (Midcontinent Express), Columbia Gulf Transmission Co. (Columbia Gulf), Gulf South Pipeline Co., LP (Gulf South) and Southeast Supply Header, LLC (SESH) in Madison Parish Louisiana; (2) a blanket certificate authorizing Tallulah to construct, acquire, operate, rearrange, and abandon facilities; (3) a blanket certificate authorizing Tallulah to provide open access firm and interruptible gas storage services on behalf of others in interstate commerce with pre-granted abandonment of such services; and (4) waivers of Commission regulations, all as more fully set forth in the application which is on file with the Commission and open to public inspection.

Specifically, Tallulah proposes to construct, own, operate, and maintain a new underground natural gas salt cavern storage facility consisting of three caverns, each with a working gas capacity of 8 billion cubic feet (Bcf), and approximately 3.4 Bcf of base gas, having a combined maximum daily withdrawal rate of 1,575 million cubic feet per day (MMcf/d) and a maximum injection capability of 900 MMcf/d. Tallulah also states that the facility will have a total capacity of approximately 11.4 Bcf and a peak deliverability of 525 MMcf/d. Tallulah also proposes to construct approximately 3.3 miles of dual 24-inch diameter lateral pipeline to four new meter and regulator stations interconnecting with Midcontinent Express, Columbia Gulf, Gulf South, and SESH. Tallulah will also install six natural gas-fired compressors totaling 28,410 horsepower as well as associated interconnecting piping and appurtenant facilities. Tallulah seeks authorization to charge market-based rates for its proposed services.

The filing may be viewed on the web at http://www.ferc.gov using the “eLibrary” link. Enter the docket number excluding the last three digits in the docket number field to access the document. For assistance, contact FERC at FERCOnlineSupport@ferc.gov or call toll-free, (886) 208-3676 or TYY, (202) 502-8659.

Any questions regarding this application should be directed to Mark Fullerton, Tallulah Gas Storage LLC, 10370 Richmond Avenue, Suite 510, Houston, TX 77042, or by calling (713) 403-6454 (telephone) or (713) 403-6461 (fax), mfullerton@icon-ngs.com, or to John S. Decker, Vinson & Elkins L.L.P., 1455 Pennsylvania Avenue, NW., Suite 600, Washington, DC 20004-1008, or by calling (202) 639-6599 (telephone) or (202) 879-8899 (fax), jdecker@velaw.com.

Pursuant to § 157.9 of the Commission's rules, 18 CFR 157.9, within 90 days of this Notice the Commission staff will either: Complete its environmental assessment (EA) and place it into the Commission's public record (eLibrary) for this proceeding; or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all Federal authorizations within 90 days of the date of issuance of the Commission staff's FEIS or EA.

There are two ways to become involved in the Commission's review of this project. First, any person wishing to obtain legal status by becoming a party to the proceedings for this project should, on or before the comment date stated below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commentors will be placed on the Commission's environmental mailing list, will receive copies of the environmental documents, and will be notified of meetings associated with the Commission's environmental review process. Environmental commentors will not be required to serve copies of filed documents on all other parties. However, the non-party commentors will not receive copies of all documents filed by other parties or issued by the Commission (except for the mailing of environmental documents issued by the Commission) and will not have the right to seek court review of the Commission's final order.

The Commission strongly encourages electronic filings of comments, protests and interventions in lieu of paper using the “eFiling” link at http://www.ferc.gov. Persons unable to file electronically should submit an original and 14 copies of the protest or intervention to the Federal Energy regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: September 30, 2010.

Kimberly D. Bose,
Secretary.

[FR Doc. 2010-23212 Filed 9-16-10; 8:45 am]

BILLING CODE 6717-01-P